POSTAL SERVICE

Board of Governors; Sunshine Act Meeting; Cancellation of Closed Session

DATE AND TIME: On April 22, 2014, the Board of Governors of the U.S. Postal Service filed a public announcement that it would meet in closed session on May 8, 2014, at 12:45 p.m., Eastern Daylight Time. That announcement further stated that the Board would meet in open session the following day, May 9, 2014, at 8:30 a.m., and would reconvene in closed session at 10:30 a.m. if needed to complete its closed session agenda. This announcement was published in the Federal Register on April 24, 2014, 79 FR 22837. The purpose of the present announcement is to inform the public that the closed session of the Board's meeting has been cancelled. The previously announced open session of the Board will begin as scheduled at 8:30 a.m. on May 9, 2014. Following the conclusion of the scheduled public agenda, in accordance with section 7.5(c)(2) of its Bylaws (39 CFR 7.5(c)(2)), the Board may vote to continue the meeting in a closed session to discuss appropriate matters.

CONTACT PERSON FOR MORE INFORMATION: Julie S. Moore, Secretary of the Board, U.S. Postal Service, 475 L'Enfant Plaza SW., Washington, DC 20260-1000. Telephone (202) 268-4800.

Julie S. Moore,
Secretary.

[FR Doc. 2014-10865 Filed 5-7-14; 4:15 pm]

BILLING CODE 7710-12-P